DEPARTMENT OF JUSTICE

Notice of Lodging of Consent Decree Under the Clean Water Act

Notice is hereby given that on January 18, 2001, a proposed Consent Decree in United States and State of Georgia v. Dalton Utilities, et al., Civil Action No. 4:98-CV-191-HLM was lodged with the United States District Court for the Northern District of Georgia.

In this action the United States and the State of Georgia sought civil penalties and injunctive relief to address violations of the Clean Water Act in the wastewater operations of Dalton Utilities, part of the muncipality of Dalton, Georgia. In particular, the United States and State of Georgia alleged unlawful discharges from the collection system and land application system, unlawful disposal of sewage sludge, and violations of Dalton Utilities' pretreatment program. In the Consent Decree, the defendants agree to pay a civil penalty of $6 million and to perform various injunctive relief. The defendants agree to submit to audits of their collection system and pretreatment program, and to make improvements identified during the audits. The defendants agree to monitor their land application system for one year and to correct the causes of any discharges. The State of Georgia agrees to issue a draft NPDES permit covering the land application system at the end of the monitoring period. The defendants also agree to a permanent injunction against the land application of sewage sludge and to remediate, if necessary, fields formerly used for sludge disposal.

The Department of Justice will receive for a period of thirty (30) days from the date of this publication comments relating to the Consent Decree. Comments should be addressed to the Assistant Attorney General, Environment and Natural Resources Division, PO Box 7611, U.S. Department of Justice, Washington, DC 20044-7611, and should refer to United States and State of Georgia v. Dalton Utilities, et al., D.J. Ref. 90-5-1-1-4436.

The Consent Decree may be examined at the Office of the United States Attorney, 73 Spring Street, SW, Suite 1800, Atlanta, Georgia, and at U.S. EPA Region 4, 61 Forsyth Street, SW, Atlanta, Georgia. A copy of the Consent Decree may also be obtained by mail from the Consent Decree Library, PO Box 7611, U.S. Department of Justice, Washington, DC 20044-7611. In requesting a copy, please enclose a check in the amount of $28.00 (25 cents per page reproduction cost) payable to the Consent Decree Library.

Ellen Mahan,
Assistant Chief, Environmental Enforcement Section, Environment and Natural Resources Division.

[FR Doc. 01-3063 Filed 2-5-01; 8:45 am]

BILLING CODE 4410-15-M